COMMISSION ON CIVIL RIGHTS

Notice of Public Meeting of the North Carolina Advisory Committee for a Meeting To Discuss Potential Project Topics

AGENCY: Commission on Civil Rights.

ACTION: Notice of meeting.

SUMMARY: Notice is hereby given, pursuant to the provisions of the rules and regulations of the U.S. Commission on Civil Rights (Commission) and the Federal Advisory Committee Act that the North Carolina Advisory Committee will hold a meeting on Tuesday, May 17, 2016, for the purpose of discussing town hall meeting transcript conducted on April 7, 2016 in Walnut Cove, NC.

Members of the public can listen to the discussion. This meeting is available to the public through the following toll-free call-in number: 888-427-9419, conference ID: 4170236. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office by May 13, 2016. Written comments may be mailed to the Southern Regional Office, U.S. Commission on Civil Rights, 61 Forsyth Street, Suite 16T126, Atlanta, GA 30303. They may also be faxed to the Commission at (404) 562-7005, or emailed to Regional Director, Jeffrey Hinton at jhinton@usccr.gov. Persons who desire additional information may contact the Southern Regional Office at (404) 562-7000.

Records generated from this meeting may be inspected and reproduced at the Southern Regional Office, as they become available, both before and after the meeting. Records of the meeting will be available via www.facadatabase.gov under the Commission on Civil Rights, North Carolina Advisory Committee link. Persons interested in the work of this Committee are directed to the Commission's Web site, http://www.usccr.gov, or may contact the Southern Regional Office at the above email or street address.

DATES: The meeting will be held on Tuesday, May 17, 2016, 12:00 p.m. EST.

ADDRESSES: The meeting will be by teleconference. Toll-free call-in number: 888-437-9419, conference ID: 4170236.

Agenda

—Welcome/Attendance: Jeff Hinton & Matty Lazo-Chadderton, Chair

—North Carolina Advisory Committee discussion of the transcript (Coal Ash disposal) of the town hall meeting conducted on April 7, 2016 in Walnut Cove, NC (Coal Ash) Matty Lazo-Chadderton, Chair

—Open Comment: Staff/Advisory Committee

—Public Participation

—Adjournment

Exceptional Circumstance: Pursuant to 41 CFR 102-3.150, the notice for this meeting is given less than 15 calendar days prior to the meeting because of the exceptional circumstances of providing expedited information to the Commission for use in the agency's 2016 statutory enforcement report. Given the exceptional urgency of the events, the agency and advisory committee deem it important for the advisory committee to meet on the date given.

FOR FURTHER INFORMATION CONTACT: Jeff Hinton, DFO, at jhinton@usccr.gov or 404-562-7006.

Dated: May 3, 2016.
David Mussatt,
Chief, Regional Programs Unit.

[FR Doc. 2016-10710 Filed 5-5-16; 8:45 am]

BILLING CODE 6335-01-P